NATIONAL LABOR RELATIONS BOARD

Sunshine Act Meetings: August 2011

TIME AND DATES: All meetings are held at 2:30 p.m. Wednesday, August 3; Wednesday, August 10; Wednesday, August 17; Wednesday, August 24; Wednesday, August 31.

PLACE: Board Agenda Room, No. 11820, 1099 14th St., NW., Washington DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

FOR FURTHER INFORMATION CONTACT: Henry S. Breiteneicher, (202) 273-2917.

Dated: July 28, 2011.
Henry S. Breiteneicher,
Associate Executive Secretary.

[FR Doc. 2011-19486 Filed 7-28-11; 4:15 pm]

BILLING CODE 7545-01-P